DEPARTMENT OF HOMELAND SECURITY

Coast Guard

33 CFR Part 165

[Docket Number USCG-2024-0749]

RIN 1625-AA87

Security Zone; Chicago River (Main Branch), North Branch Chicago River, South Branch Chicago River, Chicago, IL

AGENCY: Coast Guard, DHS.

ACTION: Temporary final rule.

SUMMARY: The Coast Guard will establish a Security Zone on the Chicago River (Main Branch) between mile marker 325.6 (point at which the Chicago River connects to the South Branch Chicago River) and 100 yards extending past the end of the Chicago River covering the area of the Federal channel within Chicago Harbor and the North Branch Chicago River between mile marker 325.6 (point at which the North Branch Chicago River connects to the Chicago River-Main Branch and the South Branch Chicago River) and mile marker 331.4 (end of navigation channel). This action is intended to protect spectators and dignitaries associated with the Democratic National Convention. During the enforcement period listed below, entry into, transiting, or anchoring within the Security Zone if prohibited unless authorized by the Captain of the Port Lake Michigan or a designated Coast Guard or U.S. Secret Service Representative.

DATES: For the purposes of enforcement, actual notice will be used from August 18, 2024, until August 23, 2024. This rule is effective without actual notice from August 23, 2024, through August 23, 2024.

ADDRESSES: To view documents mentioned in this preamble as being available in the docket, go to https://www.regulations.gov, type USCG-2024-0749 in the search box and click “Search.” Next, in the Document Type column, select “Supporting & Related Material.”

FOR FURTHER INFORMATION CONTACT: If you have questions about this Temporary Final Rule, call or email LT James Fortin, Waterways Management Division, Marine Safety Unit Chicago, U.S. Coast Guard; telephone: (630) 986-2155, email: D09-SMB-MSUChicago-WWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule due to it being impracticable and contrary to the public interest. Due to the sensitive security issues related to the Democratic National Convention, providing a public notice and comment period would be contrary to the security zone's intended objective of protecting VIPs and the public because we cannot share the sensitive security information details prior to the rule being published.

Also, under 5 U.S.C. 553(d)(3), the Coast Guard finds that good cause exists for making this rule effective less than 30 days after publication in the Federal Register. Delaying the effective date by first publishing an NPRM and holding a comment period would be contrary to the rule's objectives of ensuring safety of life on the navigable waters and protection of the Democratic National Convention and accompanying high-ranking government officials.

III. Legal Authority and Need for Rule

The Coast Guard may issue security zone regulations under authority in 46 U.S.C. 70051 and 70124. The Captain of the Port, Sector Lake Michigan has determined that this temporary security zone is necessary to provide for the security of the Democratic National Convention and the accompanying high-ranking government officials, and to protect against sabotage or terrorist attacks to human life, vessels, mariners, and waterfront venues at or near this event.

IV. Discussion of the Rule

The Democratic National Convention will take place in Chicago, IL from August 18, 2024, until August 23, 2024. The Coast Guard will enforce a Security Zone on the Chicago River (Main Branch) between mile marker 325.6 (point at which the Chicago River connects to the South Branch Chicago River) and 100 yards extending past the end of the Chicago River covering the area of the Federal channel within Chicago Harbor and the North Branch Chicago River between mile marker 325.6 (point at which the North Branch Chicago River connects to the Chicago River-Main Branch and the South Branch Chicago River) and mile marker 331.4 (end of navigation channel). The regulations in 33 Code of Federal Regulations (CFR) 165.T09-0749 will be enforced intermittently from 12 p.m. on August 18, 2024, through 12 p.m. on August 23, 2024.

All vessels must obtain permission from the Captain of the Port Lake Michigan, or his or her designated on-scene representative to enter, move within, or exit this security zone during the enforcement times listed in this temporary final rule. The designation of the Captain of the Port Lake Michigan's on-scene representative need not be in writing. Requests must be made in advance and approved by the Captain of the Port or a designated on-scene representative before transits will be authorized. Approvals will be granted on a case-by-case basis. Vessels and persons granted permission to enter the security zone shall obey all lawful orders or directions of the Captain of the Port Lake Michigan or a designated on-scene representative.

This temporary final rule is issued under the authority of 46 U.S.C. 70051, 46 U.S.C. 70124, and 5 U.S.C. 552(a). In addition to this temporary final rule in the Federal Register, the Coast Guard will provide the maritime community with notification of this enforcement period via Broadcast Notice to Mariners. The Captain of the Port Lake Michigan or a designated on-scene representative may be contacted via VHF-FM Channel 16 or (414) 747-7182.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of year of the security zone. The security zone will impact a small, designated area and will be enforced only during the event and event-related activities. The security zone will be in a location where commercial vessel traffic is expected to be significant during enforcement; commercial and recreational vessel traffic will not be authorized to transit the security zone to the extent compatible with public safety and security. Persons and vessels will be able to operate in the surrounding area adjacent to the security zone during the enforcement period. Moreover, the Coast Guard will issue Broadcast Notice to Mariners via VHF-FM marine channel 16 identifying the continuously and intermittently security zone location, maritime restrictions, and enforcement dates.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the near or adjacent the security zone may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian Tribes, on the relationship between the Federal Government and Indian Tribes, or on the distribution of power and responsibilities between the Federal Government and Indian Tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves one security zone which will be enforced for a span of multiples days during the timeframe stated above and will prohibit entry within certain waters of the Chicago River. It is categorically excluded from further review under paragraph L60(c) of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 165

Harbors, Marine safety, Navigation (water), Reporting and recordkeeping requirements, Security measures, Waterways.

For the reasons discussed in the preamble, the Coast Guard amends 33 CFR 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.3.

2. Add § 165.T09-0749 to read as follows:

§ 165.T09-0749 Security Zone; Chicago River (Main Branch), North Branch Chicago River, South Branch Chicago River, Chicago, IL.

(a) Location. The Security Zone consists of the following areas:

(1) South Branch Chicago River. All U.S. waters of the South Branch Chicago River between mile marker 321.8 (point at which the South Branch Chicago River connects to the Chicago Sanitary and Ship Canal) and mile marker 325.6 (point at which the South branch Chicago River connects to the Chicago River (Main Branch) and North Branch Chicago River)

(2) Chicago River (Main Branch). All U.S. waters of the Chicago River (Main Branch) between mile marker 325.6 (point at which the Chicago River connects to the South Branch Chicago River) and 100 yards extending past the end of the Chicago River covering the area of the Federal channel within Chicago Harbor.

(3) North Branch Chicago River. All U.S. waters of the North Branch Chicago River between mile marker 325.6 (point at which the North Branch Chicago River connects to the Chicago River (Main Branch) and the South Branch Chicago River) and mile marker 331.4 (end of navigation channel).

(b) Effective period. This section is effective from 12 p.m. on August 18, 2024, through 12 p.m. on August 23, 2024.

(c) Regulations. In accordance with the general regulations in § 165.33, unless otherwise provided in the special regulations in subpart F of this part:

(1) No person or vessel may enter or remain in a security zone without the permissions of the Captain of the Port.

(2) Each person and vessel in a security zone shall obey any direction or order of the Captain of the Port;

(3) The Captain of the Port may take possession and control of any vessel in the security zone;

(4) The Captain of the Port may remove any person, vessel, article, or thing from a security zone;

(5) No person may board, or take or place any article or thing on board, any vessel in a security zone without the permission of the Captain of the Port; and

(5) No person may take or place any article or thing upon any waterfront facility in a security zone without the permission of the Captain of the Port.

(d) Enforcement period. The Captain of the Port, Sector Lake Michigan, will enforce this security zone as necessary, in whole, in segments, or by any combination of segments throughout the effective period from 12 p.m. on August 18, 2024, through 12 p.m. on August 23, 2024.

Dated: August 16, 2024.
Gregory J. Knoll,
Commander, U.S. Coast Guard, Alternate Captain of the Port, Lake Michigan.

[FR Doc. 2024-18872 Filed 8-22-24; 8:45 am]

BILLING CODE 9110-04-P